DEPARTMENT OF HOUSING AND URBAN DEVELOPMENT

24 CFR Parts 1006 and 1007

[Docket No. FR-4668-C-02]

RIN 2577-AC27

Housing Assistance for Native Hawaiians: Native Hawaiian Housing Block Grant Program and Loan Guarantees for Native Hawaiian Housing; Correction

AGENCY: Office of the General Counsel, HUD.

ACTION: Interim rule, correction.

SUMMARY: On June 13, 2002, HUD published an interim rule to implement HUD's Office of Public and Indian Housing (PIH) procedures and requirements for two new programs to address the housing needs of Native Hawaiians. The preamble did not include the Federalism finding that was made for the rule. This notice provides that information.

FOR FURTHER INFORMATION CONTACT: Sherone Ivey, Office of Native American Programs, Office of Public and Indian Housing, Department of Housing and Urban Development, 451 Seventh Street, SW., Washington, DC 20410, telephone (202) 401-7914. Persons with hearing or speech impairments may access this number via TTY by calling the toll-free Federal Information Relay Service at 1-800-877-8339.

SUPPLEMENTARY INFORMATION: HUD published an interim rule on June 13, 2000 (67 FR 40774) that established two new programs to provide affordable housing for Native Hawaiians. The Native Hawaiian Housing Block Grant Program will provide housing block grants to fund affordable housing activities. The Section 184A Loan Guarantees for Native Hawaiian Housing Program will provide Native Hawaiian families with greater access to private mortgage resources by guaranteeing loans for one- to four-family housing located on Hawaiian Home Lands. The preamble of the interim rule inadvertently omitted publication of the finding under Executive Order 13132, Federalism, that was made for the rule. This notice published today provides that information as follows:

Executive Order 13132, Federalism

Executive Order 13132 (entitled “Federalism”) prohibits an agency from publishing any rule that has federalism implications if the rule either (1) imposes substantial direct compliance costs on State and local governments and is not required by statute, or (2) the rule preempts State law, unless the agency meets the consultation and funding requirements of section 6 of the Executive Order. This rule does not have federalism implications and does not impose substantial direct compliance costs on State and local governments or preempt State law within the meaning of the Executive Order.

Dated June 17, 2002.
Camille E. Acevedo,
Associate General Counsel for Legislation and Regulations.

[FR Doc. 02-15649 Filed 6-20-02; 8:45 am]

BILLING CODE 4210-33-P